DEPARTMENT OF COMMERCE

International Trade Administration

[A-201-847]

Heavy Walled Rectangular Welded Carbon Steel Pipes and Tubes From Mexico: Final Results of Antidumping Duty Administrative Review; 2022-2023; Correction

AGENCY: Enforcement and Compliance, International Trade Administration, Department of Commerce.

ACTION: Notice; correction.

SUMMARY: The U.S. Department of Commerce (Commerce) published notice in the Federal Register on July 24, 2025, in which Commerce announced the final results of the 2022-2023 administrative review of the antidumping duty (AD) order on heavy-walled rectangular welded carbon steel pipes and tubes (HWR) from Mexico. In the final results, Commerce incorrectly assigned a review-specific cash deposit rate of 11.80 percent to certain non-examined companies for which the review was rescinded in the Preliminary Results. Commerce is correcting two items in the final results.

FOR FURTHER INFORMATION CONTACT: Katie Smith, AD/CVD Operations, Office II, Enforcement and Compliance, International Trade Administration, U.S. Department of Commerce, 1401 Constitution Avenue NW, Washington, DC 20230; telephone: (202) 482-0557.

SUPPLEMENTARY INFORMATION:

Background

On June 24, 2025, Commerce published in the Federal Register the Final Results of the 2022-2023 administrative review ¹ of the antidumping duty order on HWR from Mexico.

¹ See Heavy Walled Rectangular Welded Carbon Steel Pipes and Tubes from Mexico: Final Results of Antidumping Duty Administrative Review; 2022-2023, 90 FR 34842 (July 24, 2025) (Final Results), and accompanying Issues and Decision Memorandum.

In the Final Results, Commerce incorrectly assigned a review-specific cash deposit rate of 11.80 percent to certain non-examined companies for which the review was rescinded in the Preliminary Results.² Because we previously rescinded the review for these companies in the Preliminary Results, this notice preserves that rescission and revises the “Final Results of Review” section in the Final Results to remove the rate assigned to these companies.

² See Heavy Walled Rectangular Welded Carbon Steel Pipes and Tubes from Mexico: Preliminary Results and Recission in Part, of the Antidumping Duty Administrative Review; 2022-2023, 89 FR 84530 (October 23, 2024) (Preliminary Results), and accompanying Preliminary Decision Memorandum.

Consistent with our treatment of all non-examined companies in the Preliminary Results,³ we continue to rescind the review for the following 14 companies: (1) Aceros del Toro S.A. de C.V.; (2) Aceros El Fraile S.A. de C.V.; (3) Arco Metal S.A. de C.V.; (4) Border Assembly S. de R.L. de C.V.; (5) Buffalo Tube S.A. de C.V.; (6) Fortacero S.A. de C.V.; (7) Forza Steel S.A. de C.V.; (8) Grupo Collado S.A. de C.V; (9) Industrias Monterrey S.A. de C.V.; (10) Perfiles y Herrajes L.M. S.A. de C.V.; (11) Placa y Fierro de Monterrey S.A. de C.V.; (12) PYTCO S.A. de C.V.; (13) Regiomontana de Perfiles y Tubos S.A. de C.V.; and (14) Tuberias Procarsa S.A. de C.V. As a result, we are correcting aspects of the Final Results, identified below.

³ See Preliminary Results, 89 FR at 84530.

Correction 1

In the Federal Register of July 24, 2025, in FR Doc 2025-13985, on pages 34842-43, correct the notice by removing the entire section entitled “Rates for Companies Not Selected for Individual Examination.”

Correction 2

In the Federal Register of July 24, 2025, in FR Doc 2025-13985, on page 34843, correct the notice by removing, in part, the section of the table entitled, “Review Specific Rate for Non-Examined Companies.”

Notification to Interested Parties

This notice is issued and published in accordance with sections 751(a)(1) and 777(i) of the Tariff Act of 1930, as amended, and 19 CFR 351.221(b)(5).

Dated: August 14, 2025.
Abdelali Elouaradia,
Deputy Assistant Secretary for Enforcement and Compliance.

[FR Doc. 2025-15783 Filed 8-18-25; 8:45 am]

BILLING CODE 3510-DS-P